NATIONAL AERONAUTICS AND SPACE ADMINISTRATION

[Notice: 04-052]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Ms. Nancy Kaplan, Code VE, National Aeronautics and Space Administration, Washington, DC 20546-0001.

FOR FURTHER INFORMATION CONTACT: Requests for additional information or copies of the information collection instrument(s) and instructions should be directed to Ms. Nancy Kaplan, NASA Reports Officer, NASA Headquarters, 300 E Street SW., Code VE, Washington, DC 20546, (202) 358-1372, nancy.kaplan@nasa.gov.

SUPPLEMENTARY INFORMATION:

I. Abstract

The National Aeronautics and Space Administration (NASA) is renewing an existing collection which is used to identify all new technologies (i.e., “inventions, discoveries, improvements, and innovations”) resulting from work performed under NASA contracts and agreements. The requirement for this information is set forth in Section 305(b) of the National Aeronautics and Space Act of 1958, and subpart 1827 of the NASA Federal Acquisition Regulation Supplement.

II. Method of Collection

NASA uses both paper and electronic methods to collect this information. Respondents may submit NASA Form 1679, Disclosure of Invention and New Technology, or use the eNTRe system for electronic reporting.

III. Data

Title: AST—Technology Utilization.

OMB Number: 2700-0009.

Type of review: Revision of a currently approved collection.

Affected Public: Business or other for-profit; not-for-profit institutions.

Estimated Number of Respondents: 538.

Estimated Time Per Response: Ranges from 0.75 hours to 1 hour.

Estimated Total Annual Burden Hours: 1545.

Estimated Total Annual Cost: $0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Patricia L. Dunnington,
Chief Information Officer.

[FR Doc. 04-9034 Filed 4-20-04; 8:45 am]

BILLING CODE 7510-01-P